DEPARTMENT OF ENERGY

Federal Energy Regulatory Commission

[Project No. 2188-156]

PPL Montana, LLC; Notice of Availability of Environmental Assessment

February 12, 2009.

In accordance with the National Environmental Policy Act of 1969 and the Federal Energy Regulatory Commission's regulations, 18 CFR Part 380 (Order No. 486, 52 FR 47879) the Office of Energy Projects has prepared an environmental assessment (EA) for an application filed by PPL Montana, LLC (licensee) on June 11, 2008, requesting Commission approval to construct numerous improvements at the Rainbow Development of the Missouri-Madison Hydroelectric Project (FERC No. 2188). The licensee proposes improvements that differ substantially from those analyzed during the relicensing of the project. Specifically, the licensee proposes to construct a new intake, power canal, powerhouse, and tailrace at the Rainbow Development. The project's Rainbow Development is located on the Missouri River northeast of the City of Great Falls, in Cascade County, Montana. The EA evaluates the environmental impacts that would result from approving the licensee's proposal. The EA finds that approval of the application would not constitute a major federal action significantly affecting the quality of the human environment.

A copy of the EA is on file with the Commission and is available for public inspection. The EA may also be viewed on the Commission's Web site at http://www.ferc.gov using the “eLibrary” link. Enter the docket number (P-2188) excluding the last three digits in the docket number field to access the document. For assistance, contact FERC Online Support at FERCOnlineSupport@ferc.gov or toll-free at 1-866-208-3372, or for TTY, (202) 502-8659.

You also may register online at http://www.ferc.gov/docs-filing/esubscription.asp to be notified via e-mail of new filings and issuances related to this or other pending projects. For assistance, contact FERC Online Support.

For further information, please contact Christopher Yeakel by telephone at (202) 502-8132 or by e-mail at christopher.yeakel@ferc.gov.

Kimberly D. Bose,
Secretary.

[FR Doc. E9-3689 Filed 2-20-09; 8:45 am]

BILLING CODE 6717-01-P